DEPARTMENT OF ENERGY

Federal Energy Regulatory Commission

[Docket No. CP01-61-000]

Viking Gas Transmission Company; Notice of Application

January 8, 2001.

On December 29, 2000, Viking Gas Transmission Company (Viking), 825 Rice Street, St. Paul, Minnesota 55117, filed in Docket No. CP01-61-000, an abbreviated application pursuant to Section 7(c) of the Natural Gas Act (NGA) and the Commission's Rules and Regulations for a certificate of public convenience and necessity authorizing Viking to construct certain pipeline facilities referred to as the Hallock Project, all as more fully set forth in the application which is on file with the Commission and open to public inspection. The filing may be viewed at http://www.ferc.fed.us/online/rims.htm (call 202-208-2222 for assistance).

Viking proposes in the Hallock Project to install 5.6 miles of 24-inch security looping to provide a second line in the first segment of its mainline from near the Emerson Interconnect with TransCanada Pipelines Ltd. (TCPL) to its first compressor station, the Hallock Compressor Station. Viking is proposing this project to enable it to maintain gas flow into its system from TCPL without interruption to customers when this area of the existing pipe will be taken out of service temporarily for necessary integrity testing and maintenance work. The construction and operation of the proposed facilities also will provide Viking with the opportunity to reduce its fuel consumption at the Hallock Compressor Station by an estimated 81,000 Dth annually.

Specifically, Viking proposes to construct and operate the following facilities:

—5.6 miles of 24-inch mainline loop segment adjacent to Viking's existing line in Kittson County, Minnesota;

—Two pig launchers, a relief valve for overpressure pressure protection, two mainline block valves, blowdown valves, and tie-in piping and fittings to be installed on approximately one acre of property to be purchased in Kittson County, Minnesota; and

—Tie-in piping with one mainline suction valve within the fenced boundaries of Viking's Hallock Compressor Station.

The proposed facilities will not create incremental capacity beyond the Hallock Compressor Station which is limited to 877 psig. An incremental capacity will be created in the proposed 5.6-miles line. This capacity is not marketable since Viking currently serves no markets in this area and none are anticipated. The proposed Hallock Project facilities are anticipated to go into service on or about November 1, 2001.

The estimated cost of Viking's proposed construction is approximately $3.9 million. Viking anticipates that it will make a general rate case filing for the demand rates during December 2001, at which time Viking will seek to roll in the Hallock Project costs. Viking estimates the cost impact of the project to be $0.0036 per Dth per day on a 100% load factor basis. Also, Viking anticipates that the reduction in system fuel requirements will result in fuel savings of approximately $324,000 annually. This reduction will accrue back to Viking's current and future customers through the fuel tracker and true-up provisions in Article XXVI of its tariff.

Questions regarding the details of this proposed project should be directed to Michael L. Jablonske, Vice President, Viking Gas Transmission Company, 825 Rice Street, St. Paul, Minnesota 55117, at 651-229-2254, or by fax at 651-229-2434.

There are two ways to become involved in the Commission's review of this project. First, any person wishing to obtain legal status by becoming a party to the proceedings for this project should, on or before January 22, 2001, file with the Federal Energy Regulatory Commission, 888 First Street, NE., Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-1014 Filed 1-11-01; 8:45 am]

BILLING CODE 6717-01-M